DEPARTMENT OF COMMERCE

National Oceanic and Atmospheric Administration

Marine Protected Areas Federal Advisory Committee: Call for Nominations and Public Meeting

AGENCY: National Marine Protected Areas Center (MPAC), Office of National Marine Sanctuaries (ONMS), National Ocean Service (NOS), National Oceanic and Atmospheric Administration (NOAA), Department of Commerce (DOC).

ACTION: Notice and call for nominations of new Marine Protected Areas Federal Advisory Committee (MPA FAC) members, and notice of public meeting via teleconference.

SUMMARY: The Department of Commerce (Department) is seeking nominations for membership on the Marine Protected Areas Federal Advisory Committee (Committee). The Committee advises the Secretaries of Commerce and Interior on implementing Section 4 of Executive Order 13158, focusing mainly on strategies and priorities for the design, monitoring and adaptive management of effective MPAs in U.S. waters. Nominations are sought for 11 highly qualified non-Federal scientists (natural and social), resource managers, and people representing other interests or organizations involved with, or affected by, marine protected areas, including in the Great Lakes. Additionally, notice is hereby given of a Committee meeting to be held via teleconference on Thursday, November 8, 2018, from 3:00-4:00 p.m. Eastern Time (12:00-1:00 p.m. Pacific Time). The teleconference is open to members of the public.

DATES:

Nominations: Nominations must be received before or on December 1, 2018.

Meeting: The Committee will convene a meeting via webinar on Thursday, November 8, 2018, from 3:00-4:00 p.m. Eastern Time (12:00-1:00 p.m. Pacific Time). The teleconference is open to the public, and documents will be available for public viewing at the web page noted below. Members of the public who wish to participate in the meeting must register in advance by Friday, November 2, 2018 (see below). These times and the agenda topics described below are subject to change. Refer to the following web page for dial in information and for the most up-to-date meeting agenda: http://marineprotectedareas.noaa.gov/fac/meetings/.

ADDRESSES:

Nominations: Nominations should be sent to Nicole Capps at West Coast Region, Office of National Marine Sanctuaries, 99 Pacific Street, Suite 100-F, Monterey, CA 93940, or Nicole.Capps@noaa.gov. Electronic submissions are acceptable.

Meeting: The meeting will be held via teleconference call. Register by contacting Nicole Capps at Nicole.Capps@noaa.gov or by telephone at (831) 647-6451. Teleconference capacity may be limited.

FOR FURTHER INFORMATION CONTACT: Dr. Charles Wahle, Designated Federal Officer, MPA FAC, National Marine Protected Areas Center, 99 Pacific Street, Suite 100-F, Monterey, CA 93940, (Phone: 831-238-2244; Email: Charles.Wahle@noaa.gov; or visit the National MPA Center website at http://www.marineprotectedareas.noaa.gov).

SUPPLEMENTARY INFORMATION: Executive Order 13158 directs the Department of Commerce and the Department of the Interior to seek the expert advice and recommendations of non-federal scientists (natural and social), resource managers, and other interested people and organizations through a Marine Protected Areas Federal Advisory Committee (Committee). The Committee was established in June 2003 and includes 20 members. The Committee meets at least twice annually; meetings may be in person or via teleconference/webinar. Committee members serve a four-year term, and serve at the discretion of the Under Secretary of Commerce for Oceans and Atmosphere in consultation with the designee of the Secretary of the Interior. Members of the Committee are not compensated for their time, but their travel expenses associated with attending Committee meetings are reimbursed, as authorized by 5 U.S.C. 5703.

Nominations: The Committee operates according to a Charter and a Member Balance Plan. The Member Balance Plan identifies the following approximate number of representatives on the Committee:

—Commercial fishing (2)

—Recreational fishing (2)

—Ocean industry (e.g., energy, undersea cables, etc) (2)

—Conservation (3)

—State resource managers (1)

—Tribal and indigenous representatives (2)

—Natural science (2)

—Social science (2)

—Cultural resource management (2)

—Non-consumptive uses (e.g., diving, tourism) (2)

—Other (Foundations, education, etc) (0)

While these numbers are not binding, they provide guidance to ensure the maintenance of diverse expertise and perspectives on the Committee. Individuals seeking membership on the Committee should possess demonstrable expertise in a related field or represent a specific stakeholder interest in MPAs. Nominees will also be evaluated based on the following factors: Marine policy and management experience; leadership and organizational skills, including working effectively in diverse groups; region of country represented; and member demographics. The Committee's membership reflects the Department's commitment to attaining balance and diversity. Members will be expected to participate regularly in meetings, report preparation and review, and constructive discussion of important and timely ocean management issues in the United States.

Anyone is eligible to nominate; self-nominations will also be accepted. Each nomination submission should include: (1) The nominee's full name, title, institutional affiliation, and contact information; (2) the nominee's area(s) of expertise; (3) a short description of his/her qualifications relative to the kinds of advice being solicited; and (4) a resume or CV not to exceed four pages in length. Individuals submitting nominations may choose to include letters of support (no more than three) describing the nominee's qualifications and interest in serving on the Committee. The intent is to select new members from the nominees; however, NOAA retains the discretion to appoint, subject to the appropriate procedures, individuals to the Committee who were not nominated through the process outlined in this Federal Register notice if it deems it is necessary to achieve the desired balance. After the membership selection process is complete, applicants who are selected to serve on the Committee must complete a security clearance through NOAA. Once selected, Committee members' names will be posted at: http://marineprotectedareas.noaa.gov/fac/. The full text of the Committee charter and its current membership can be viewed at the Agency's web page at http://marineprotectedareas.noaa.gov.

Meeting: The focus of the Committee's meeting on Thursday, November 8, 2018 will be to finalize and vote on three products for submission to the U.S. Departments of Commerce and the Interior. These products address: Sustaining MPA Benefits in a Changing Ocean; Factors Influencing Resilience in MPAs (a Supplementary Report); and, revisions and updates to the MPA Center's existing Cultural Heritage Resources Tool Kit. Public comment will be accepted during the meeting teleconference from 3:10-3:20 p.m. Eastern Time (12:10-12:20 p.m. Pacific Time). The Committee's products and meeting agenda, subject to change, will be posted at http://marineprotectedareas.noaa.gov/fac/meetings/.

Dated: October 18, 2018.
Rebecca R. Holyoke,
Acting Director, Office of National Marine Sanctuaries, National Ocean Service, National Oceanic and Atmospheric Administration.

[FR Doc. 2018-23255 Filed 10-23-18; 8:45 am]

BILLING CODE 3510-NK-P